Proclamation 8959 of April 19, 2013

National Crime Victims' Rights Week, 2013

By the President of the United States of America

A Proclamation

Every year, millions of Americans fall victim to crime through no fault of their own. These are people we know: families trying to rebuild after financial fraud or identity theft, grandparents spending their golden years in the shadow of elder abuse, children whose right to safety has been stolen away by violence or neglect. Many struggle to get help in the aftermath of a crime, and some never report their crime at all. During National Crime Victims' Rights Week, we reaffirm our solemn obligation to ensure they get the services they need—from care and counseling to justice under the law.

Thanks to thousands of victim assistance programs all across our country, we are making progress toward that goal. As dedicated advocates continue their important work, my Administration will continue to support them by raising awareness about victims' rights, making sure those rights are protected and practiced, and investing in training programs for law enforcement and other professionals. I was proud to sign the Violence Against Women Reauthorization Act into law last month, preserving and strengthening critical services for victims of abuse. We have continued to crack down on financial crimes that leave too many families struggling to get back on their feet. And we are stepping up our efforts in the fight against human trafficking, whether it occurs halfway around the world or right here at home.

Even now, we have more work to do. As an epidemic of gun violence has swept through places like Newtown, Aurora, Oak Creek, and cities and towns all across America, our country has come up against the hard question of whether we are doing enough to protect our children and our communities. As Americans everywhere have stood up and spoken out for change, my Administration has responded with reforms that give law enforcement, schools, mental health professionals, and public health officials better tools to reduce violent crime. But we cannot solve this problem alone. That is why I will continue to fight for common-sense measures that would address the epidemic of gun violence and help keep our children safe.

By working to prevent crime and extend support to those in need, we keep faith with our fellow citizens and the basic values that unite us. Let us renew that common cause this week, and let us rededicate ourselves to advancing it in the year ahead.

NOW, THEREFORE, I, BARACK OBAMA, President of the United States of America, by virtue of the authority vested in me by the Constitution and the laws of the United States, do hereby proclaim April 21 through April 27, 2013, as National Crime Victims' Rights Week. I call upon all Americans to observe this week by participating in events that raise awareness of victims' rights and services, and by volunteering to serve victims in their time of need.

IN WITNESS WHEREOF, I have hereunto set my hand this nineteenth day of April, in the year of our Lord two thousand thirteen, and of the Independence of the United States of America the two hundred and thirty-seventh.

[FR Doc. 2013-09866

Filed 4-23-13; 11:15 am]

Billing code 3295-F3